DEPARTMENT OF ENERGY

PhA Environmental Restoration Corporation

AGENCY: Office of the General Counsel, DOE.

ACTION: Notice of intent to grant exclusive patent licenses.

SUMMARY: Notice is hereby given of an intent to grant to PhA Environmental Restoration Corp., of Oak Hill, Virginia, exclusive licenses to practice the inventions described in U.S. Patent No. 5,324,661, entitled “Chemotactic Selection of Pollutant Degrading Bacteria” and U.S. Patent No. 5,326,703, entitled “Method of Degrading Pollutants in Soil.” The inventions are owned by the United States of America, as represented by the U.S. Department of Energy (DOE).

DATES: Written comments or nonexclusive license applications are to be received at the address listed below no later than March 9, 2001.

ADDRESSES: Office of the Assistant General Counsel for Technology Transfer and Intellectual Property, U.S. Department of Energy, 1000 Independence Avenue, SW., Washington, DC 20585.

FOR FURTHER INFORMATION CONTACT: Robert J. Marchick, Office of the Assistant General Counsel for Technology Transfer and Intellectual Property, U.S. Department of Energy, Forrestal Building, Room 6F-067, 1000 Independence Avenue, SW., Washington, DC 20585; Telephone (202) 586-4792.

SUPPLEMENTARY INFORMATION: 35 U.S.C. 209 provides the Department with authority to grant exclusive licenses in Department-owned inventions, if, among other things, the agency finds that the public will be served by the granting of the license. The statute requires that no exclusive license may be granted unless public notice of the intent to grant the license has been provided, and the agency has considered all comments received, in response to that public notice, before the end of the comment period.

PhA Environmental Restoration Corporation, of Oak Hill, Virginia, has applied for exclusive license to practice the inventions embodied in U.S. Patent Nos. 5,324,661 and 5,326,703, and has plans for commercialization of the inventions.

The exclusive licenses will each be subject to a license and other rights retained by the U.S. Government, and other terms and conditions to be negotiated. DOE intends to negotiate to grant the licenses, unless, within 60 days of this notice, the Assistant General Counsel for Technology Transfer and Intellectual Property, Department of Energy, Washington, DC 20585, receives in writing any of the following, together with supporting documents:

(i) A statement from any person setting forth reasons why it would not be in the best interests of the United States to grant either of the proposed licenses; or

(ii) An application for a nonexclusive license to either invention, in which applicant states that he already has brought either invention to practical application or is likely to bring either invention to practical application expeditiously.

The Department will review all timely written responses to this notice, and will proceed with negotiating the licenses if, after consideration of written responses to this notice, a finding is made that the licenses are in the public interest.

Issued in Washington, DC, on January 2, 2001.
Paul A. Gottlieb,
Assistant General Counsel for Technology, Transfer and Intellectual Property.

[FR Doc. 01-441 Filed 1-5-01; 8:45 am]

BILLING CODE 6450-01-P